SMALL BUSINESS ADMINISTRATION

National Women's Business Council Meeting

AGENCY: Small Business Administration.

ACTION: Notice of open public meeting and listening session.

SUMMARY: Pursuant to the Federal Advisory Committee Act, the National Women's Business Council (NWBC) announces its first public meeting of Fiscal Year 2022. The 1988 Women's Business Ownership Act established NWBC to serve as an independent source of advice and policy recommendations to the President, Congress, and the Administrator of the U.S. Small Business Administration (SBA) on issues of importance to women entrepreneurs. This meeting will allow the Council to recap its activity and engagement over the course of Fiscal Year 2021. Each of the Council's three subcommittees (Access to Capital & Opportunity, Women in STEM and Rural Women's Entrepreneurship) will present their policy recommendations and current projects to the full body for deliberation. The public will have the opportunity to provide feedback.

DATES: The public meeting will be held on Monday, October 25, 2021, from 1:00 p.m. to 3:00 p.m. EDT.

ADDRESSES: Due to the coronavirus pandemic, this meeting will be held via Microsoft Teams, a web conferencing platform. The access link will be provided to attendees upon registration.

FOR FURTHER INFORMATION CONTACT: For more information, please visit the NWBC website at www.nwbc.gov, email info@nwbc.gov or call 202-205-3850.

SUPPLEMENTARY INFORMATION: The meeting is open to the public; however, advance notice of attendance is requested. To RSVP, please visit the NWBC website at www.nwbc.gov. The “2022 Public Meetings” section will feature a link to register on Eventbrite.

NWBC strongly encourages that public comments and questions be submitted in advance by October 19th. The Eventbrite registration page will include an opportunity to do so, but individuals may also email info@nwbc.gov with subject line—“[Name/Organization] Comment for 10/25/21 Public Meeting.” NWBC staff will read the first five submitted statements during the final 20 minutes of the program.

During the live event, attendees will be in listen-only mode and may submit additional questions via the Q&A Chat feature. For technical assistance, please visit the Microsoft Teams Support Page. All public comments will be included in the meeting record, which will be made available on www.nwbc.gov under the “2022 Public Meetings” section.

Andrienne Johnson,
Committee Management Officer.

[FR Doc. 2021-21739 Filed 10-4-21; 8:45 am]

BILLING CODE 8026-03-P